DEPARTMENT OF THE INTERIOR

National Park Service

Final General Management Plan/Environmental Impact Statement; Record of Decision; Flight 93 National Memorial, Pennsylvania

AGENCY: National Park Service, Department of the Interior.

ACTION: Notice of Availability of the Record of Decision for the Final General Management Plan/Environmental Impact Statement, Flight 93 National Memorial.

SUMMARY: Pursuant to Sec. 102(2)(C) of the National Environmental Policy Act of 1969, Pub. L. 91-190, 83 Stat. 852, 853, codified as amended at 42 U.S.C. 4332(2)(C), the National Park Service announces the availability of the Record of Decision for the Final General Management Plan and Environmental Impact Statement (Final GMP/EIS) for the Flight 93 National Memorial in Pennsylvania. On July 23, 2007, the Regional Director, Northeast Region, approved the Record of Decision for the project, selecting Alternative 2—Preferred Design Alternative, which was described on pages II-14 to II-23 of the Final GMP/EIS and announced to the public in a Notice of Availability published in the Federal Register on June 21, 2007.

The selected alternative and one other alternative, Alternative 1—No Action, were analyzed in the Draft and Final Environmental Impact Statements. Each alternative was evaluated as to how it would guide the development and future management of the national memorial over the next 15 to 20 years with regard to the following issues: (1) The types of management actions required for the development, protection and preservation of park resources; (2) The types and general intensities of development (including the memorial features, visitor facilities, transportation and access requirements) associated with the public enjoyment and use of the area, including general locations, timing of implementation and anticipated costs; (3) Visitor carrying capacities and implementation commitments for major aspects of the memorial; and (4) Potential modifications to the external boundaries of the park, if any, and the reasons for the proposed changes. The full range of foreseeable environmental consequences was assessed and disclosed for historic and cultural resources, natural resources, land use, transportation, socioeconomic impacts, visual and aesthetic impacts, energy requirements, and public health and safety.

The NPS has selected Alternative 2 because it best fulfills the goals of the Flight 93 National Memorial's Missions Statement, as well as the purpose and intent of the Flight 93 National Memorial Act. The selected alternative commemorates the actions of the passengers and crew by creating a designed memorial landscape, which blends with the contour of the land and enhances the physical features of the site. It protects the final resting places of the passengers and crew and places special attention on providing an appropriate setting for the memorial. A new visitor facility will provide for interpretive exhibits, public education and outreach, and visitor services. The public will have a broader range of opportunities to learn about the deeds of the passengers and crew members and the events that occurred on September 11, 2001. The selected alternative also provides a venue for visitors to get closer to the crash site while removing parking and other visitor support facilities from the views around the crash site. Under the selected alternative, visitor traffic will be contained within the site and removed from the neighboring villages to create safer roadway conditions and significantly improve conditions for residents living along these routes. The selected alternative will not result in the impairment of resources and values. The construction costs to build the memorial features and the related infrastructure would be shared through a partnership involving the public, the Commonwealth of Pennsylvania, and the federal government.

The Record of Decision includes a statement of the decision made, synopses of other alternatives considered, the basis for the decision, a finding of no impairment of park resources and values, and an overview of public involvement in the decision-making process. This decision is the result of a public planning process that began with publication of a Notice of Intent in the Federal Register on December 10, 2003. The official responsible for this decision is the NPS Regional Director, Northeast Region.

ADDRESSES: The Record of Decision for the Final GMP/EIS for the Flight 93 National Memorial is available online at http://www.flight93memorialproject.org or http://www.planning.nps.gov/plans.cfm. Copies may be obtained by contacting the Superintendent, National Parks of Western Pennsylvania, National Park Service, 109 W. Main St., Suite 104, Somerset, PA 15501.

FOR FURTHER INFORMATION CONTACT: Joanne Hanley, Superintendent, National Parks of Western Pennsylvania, National Park Service, 109 W. Main St., Suite 104, Somerset, PA 15501, phone (814) 443-4557, joanne_hanley@nps.gov.

SUPPLEMENTARY INFORMATION: The Flight 93 National Memorial Act (Pub. L. 107-226; 116 Stat. 1345), enacted on September 24, 2002, authorized “a national memorial to commemorate the passengers and crew of Flight 93 who, on September 11, 2001, courageously gave their lives thereby thwarting a planned attack on our Nation's Capital.” This legislation enabled the creation and development of the new Flight 93 National Memorial in Stonycreek Township, Somerset County, Pennsylvania and specifically designated the crash site of Flight 93 as the site to honor the passengers and crew of Flight 93. Pub. L. 107-226 authorized the Secretary of the Interior to administer the Flight 93 National Memorial as a unit of the national park system. This Act also created the Flight 93 Advisory Commission and charged it with: (1) Advising the Secretary on the boundary of the memorial site; (2) submitting to the Secretary a report containing recommendations for the planning, design, construction, and long-term management of a permanent memorial at the crash site; and (3) advising the Secretary in the development of a management plan for the site.

On January 14, 2005, the Secretary of the Interior approved a boundary recommendation for the memorial presented by the Flight 93 Advisory commission. The details of the boundary were published in the Federal Register (70 FR 13538) on March 21, 2005. The boundary includes 1,355 acres, which comprises the crash site, the debris field and areas where human remains were found, and lands necessary for viewing and accessing the national memorial. Approximately 907 additional acres comprise the perimeter viewshed, which would be protected through conservation or scenic easements acquired by partners, nonprofit organizations or other governmental agencies.

Four partner organizations (the Partners) participated in the planning of a permanent memorial for Flight 93: (1) The Flight 93 Advisory Commission, (2) the Families of Flight 93, a nonprofit organization, (3) the Flight 93 Memorial Task Force, and (4) the National Park Service, the Federal agency responsible for compliance with the National Environmental Policy Act of 1969 (Pub. L. 91-190, as amended). On September 11, 2004, the Partners opened a two-stage international design competition to solicit a broad range of concepts for the design of the new memorial. During Stage 1 of the competition, five top designs were selected by a jury of professionals, family members and local leaders after extensive public exhibit of the designs. A Stage 2 design jury selected the final design that best achieved the mission of the new memorial. The selected design was announced to the public on September 7, 2005, and is the basis of the preferred alternative in the Draft and Final GMP/EIS. After public announcement of the final design, the National Park Service received comments criticizing the design's principal landscape feature, a curved allée or pathway lined with red maple trees, comparing it to an Islamic crescent symbol. The design was refined and again presented to the public in November 2005. The design refinements were generally well-received by the public; however, a sector of the public continued to assert that the design contained Islamic symbolism. In response, the partners met with religious scholars, design professionals, and other family members and toured the site with the principal critic of the design. At the conclusion of these activities and consultations, it was determined that the perceptions of religious symbolism in the design had been adequately addressed by the architect and that the details of the design do not affect the Final GMP/EIS. The NPS, along with the other Partners, were satisfied that the design properly honors the passengers and crew and that the refinements showed the architects' sensitivity and responsiveness to public comments.

Dated: October 4, 2007.
Dennis R. Reidenbach,
Regional Director, Northeast Region, National Park Service.

[FR Doc. 07-5304 Filed 10-25-07; 8:45 am]

BILLING CODE 4312-25-M